SECURITIES AND EXCHANGE COMMISSION

[Release No. 34-43925; File No. SR-PCX-01-06]

Self-Regulatory Organizations; Notice of Filing and Immediate Effectiveness of Proposed Rule Change by the Pacific Exchange, Inc. Regarding the Dissemination of Options Quote Size

February 5, 2001.

Pursuant to Section 19(b)(1) of the Securities Exchange Act of 1934 (“Act”) ¹ and Rule 19b-4 thereunder,² notice is hereby given that on January 22, 2001, the Pacific Exchange, Inc. (“PCX” or “Exchange”) filed with the Securities and Exchange Commission (“SEC” or “Commission”) the proposed rule change as described in Items I, II, and III below, which Items have been prepared by the PCX. The Commission is publishing this notice to solicit comments on the proposed rule change from interested persons.

¹ 15 U.S.C. 78s(b)(1).

² 17 CFR 240.19b-4.

I. Self-Regulatory Organization's Statement of the Terms of Substance of the Proposed Rule Change

The Exchange is proposing to effect a systems change to disseminate via the Options Price Reporting Authority (“OPRA”) the size of options markets in issues quoted and traded in decimals.

II. Self-Regulatory Organization's Statement of the Purpose of, and Statutory Basis for, the Proposed Rule Change

In its filing with the Commission, the PCX included statements concerning the purpose of and basis for the proposed rule change and discussed any comments it received on the proposed rule change. The text of these statements may be examined at the places specified in Item IV below. The PCX has prepared summaries, set forth in Sections A, B, and C below, of the most significant aspects of such statements.

A. Self-Regulatory Organization's Statement of the Purpose of, and Statutory Basis for, the Proposed Rule Change

1. Purpose

The Exchange is modifying its systems to permit options market sizes to be disseminated via OPRA. Pursuant to this systems change, the Exchange will disseminate the size that the PCX guarantees in a particular issue for automatic execution on the Exchange's Automatic Execution System (“Auto-Ex”) pursuant to PCX Rule 6.87(b) and for manual execution pursuant to PCX Rule 6.86(a).³ At this time, the Exchange intends to disseminate the size of markets in only those issues that are quoted and traded in decimals.

³ These guaranteed market sizes range from between twenty contracts and one hundred contracts. See PCX Rule 6.87(b) and PCX Rule 6.86(a) and (g). The Exchange notes that the guaranteed Auto-Ex size in an issue must be the same as the guaranteed size for manual execution in that issue, pursuant to PCX Rule 6.86(g).

2. Statutory Basis

The Exchange believes that the proposal is consistent with section 6(b) of the Act,⁴ in general, and section 6(b)(5),⁵ in particular, in that they are designed to facilitate transactions in securities and promote just and equitable principles of trade.

⁴ 15 U.S.C. 78f(b).

⁵ 15 U.S.C. 78f(b)(5).

B. Self-Regulatory Organization's Statement on Burden on Competition

The PCX does not believe that the proposed rule change will impose any burden on competition.

C. Self-Regulatory Organization's Statement on Comments on the Proposed Rule Change Received From Members, Participants, or Others

No written comments were solicited or received with respect to the proposed rule change.

III. Date of Effectiveness of the Proposed Rule Change and Timing for Commission Action

Because the foregoing proposed rule changes an existing trading system of the Exchange and does not (1) affect the protection of investors or the public interest; (2) impose any significant burden on competition; or (3) have the effect of limiting the access to or availability of the system, the proposed rule filing has become effective pursuant to section 19(b)(3)(A) of the Act ⁶ and subparagraph (f)(5) of Rule 19b-4 thereunder.⁷ At any time within 60 days of the filing of the proposed rule change, the Commission may summarily abrogate such rule change if it appears to the Commission that such action is necessary or appropriate in the public interest, for the protection of investors, or otherwise in furtherance of the purposes of the Act.

⁶ 15 U.S.C. 78s(b)(3)(A).

⁷ 17 CFR 240.19b-4(f)(5)

IV. Solicitation of Comments

Interested persons are invited to submit written data, views, and arguments concerning the foregoing, including whether the propsoed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing also will be available for inspection and copying at the principal office of the PCX. All submissions should refer to File No. SR-PCX-01-06 and should be submitted by March 5, 2001.

For the Commission, by the Division of Market Regulation, pursuant to delegated authority.⁸
⁸ 17 CFR 200.30-3(a)(12).
Margaret H. McFarland,
Deputy Secretary.

[FR Doc. 01-3492 Filed 2-9-01; 8:45 am]

BILLING CODE 8010-01-M